DEPARTMENT OF LABOR

Employment and Training Administration

[TA-W-81,145; TA-W-81,145A]

Sunoco, Inc., R&M Refining Division, Marcus Hook, PA; Sunoco, Inc., 10 Industrial Hwy, MS4 Building G, Lester, PA; Notice of Affirmative Determination Regarding Application for Reconsideration

By application dated March 26, 2012, the United Steel Workers Union requested administrative reconsideration of the negative determination regarding workers' eligibility to apply for Trade Adjustment Assistance (TAA) applicable to workers and former workers of Sunoco, Inc., Refining Division, Marcus Hook, Pennsylvania (TA-W-81,145), and Sunoco, Inc., Lester, Pennsylvania (TA-W-81,145A). The determination was issued on February 7, 2012, and the Department's Notice of Determination was published in the Federal Register on February 28, 2012 (77 FR 12084).

The initial investigation resulted in a negative determination based on the findings that there was no increase in imports by the workers' firm or its customer, nor was there a shift in production to a foreign country or acquisition of production from a foreign country by the workers' firm. In addition, U.S. aggregate imports of like or directly competitive articles did not increase during the relevant period.

The request for reconsideration alleges that the worker separations at the subject facilities are related to increased imports of refined petroleum products like or directly competitive with those produced by the subject firm, and that, while the initial investigation revealed that U.S. aggregate imports of refined petroleum products decreased during the relevant period, the Department did not compare domestic production to U.S. imports. The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 30th day of April, 2012.
Del Min Amy Chen,
Certifying Officer, Office of Trade Adjustment Assistance.

[FR Doc. 2012-11901 Filed 5-16-12; 8:45 am]

BILLING CODE 4510-FN-P